SOCIAL SECURITY ADMINISTRATION

[Docket No. SSA 2016-0048]

Privacy Act of 1974; Matching Program

AGENCY: Social Security Administration (SSA).

ACTION: Notice of a New Matching Program.

SUMMARY: In accordance with the provisions of the Privacy Act, as amended, this notice announces a re-establishment of an existing computer matching program that we are currently conducting with CMS.

DATES: The deadline to submit comments on the proposed matching program is 30 days from the date of publication of this notice. The matching program will be effective on July 1, 2017 and will expire on December 31, 2018.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or email at Mary.Ann.Zimmerman@ssa.gov. All comments received will be available for public inspection at this address.

FOR FURTHER INFORMATION CONTACT: Interested parties may submit general questions about the matching program to Mary Ann Zimmerman, Acting Executive Director, Office of Privacy and Disclosure, Office of the General Counsel, by any of the means shown above.

SUPPLEMENTARY INFORMATION: The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

We have taken action to ensure that all of our computer matching programs comply with the requirements of the Privacy Act, as amended.

Mary Ann Zimmerman,
Acting Executive Director, Office of Privacy and Disclosure, Office of the General Counsel.

PARTICIPATING AGENCIES:

SSA and CMS

AUTHORITY FOR CONDUCTING THE MATCHING PROGRAM:

The legal authority for this matching program is section 202 of the Act (42 U.S.C. 402), which outlines the requirements for eligibility to receive Old-Age, Survivors, and Disability Insurance Benefits under Title II of the Act. Section 205(c) of the Act (42 U.S.C. 405) directs the Commissioner of Social Security to verify the eligibility of a beneficiary.

PURPOSE(S):

The purpose of this matching program is to set forth the terms, conditions, and safeguards under which CMS will disclose to SSA Medicare identifying and non-utilization information for Social Security Title II beneficiaries aged 90 and above.

CMS will identify Medicare enrollees whose records have been inactive for three or more years. We will use this data as an indicator to select and prioritize cases for review to determine continued eligibility for benefits under Title II of the Social Security Act (Act). We will contact these individuals to verify ongoing eligibility. We will refer individual cases of suspected fraud, waste, or abuse to the Office of the Inspector General for investigation.

CATEGORIES OF INDIVIDUALS:

The individuals whose information is involved in this matching program are Social Security Title II beneficiaries aged 90 and above. CMS will identify Medicare enrollees whose records have been inactive for three or more years. We will use this data as an indicator to select and prioritize cases for review to determine continue eligibility for benefits under Title II of the Act.

CATEGORIES OF RECORDS:

We will provide CMS with a finder file containing the following information for each individual:

a. Title II Claim Account Number,

b. Title II Beneficiary Identification Code,

c. Name, and

d. Date of birth

CMS' response file will contain the following information for each individual:

a. CMS File Number

b. Whether CMS matched Beneficiary

c. Whether Medicare Used in Last 3 Years

d. Whether the beneficiary is a part of an Health Maintenance Organization

e. Whether the beneficiary lives in a Nursing Home, as defined in 42 CFR 483.5

f. Whether the beneficiary has Private Health Insurance

SYSTEM(S) OF RECORDS:

We will disclose to CMS information from Master Beneficiary Record (MBR) (60-0090), published January 11, 2006 (71 FR 1826) and updated on December 10, 2007 (72 FR 69723) and July 5, 2013 (78 FR 40542).

CMS will disclose to us information from the following SORs: National Claims History (NCH) (09-70-0558), published November 20, 2006 (71 FR 67137); Enrollment Data Base (EDB) (09-70-0502), published February 26, 2008 at 73 FR 10249; and Long Term Care—Minimum Data Set (MDS) (90-70-0528), published March 19, 2007 at 72 FR 12801.

SSA's and CMS's SORs have routine uses permitting the disclosures needed to conduct this match.

[FR Doc. 2017-14346 Filed 7-7-17; 8:45 am]

BILLING CODE 4191-02-P